ENVIRONMENTAL PROTECTION AGENCY

[FRL-9927-34-Region 6]

Notice of Extension of Public Comment Period for the Preliminary Designation of Certain Stormwater Discharges in the State of New Mexico Under the National Pollutant Discharge Elimination System of the Clean Water Act

AGENCY: Environmental Protection Agency.

ACTION: Notice and extension of public comment period.

SUMMARY: The public comment period for the Environmental Protection Agency Region 6 (EPA Region 6) Preliminary Designation of certain stormwater discharges in Los Alamos County, New Mexico has been extended until June 15, 2015.

DATES: The comment period for the notice published on March 17, 2015 (80 FR 13852) has been extended. Comments must be submitted in electronic format or in writing to EPA on or before June 15, 2015.

ADDRESSES: Comments should be submitted to Ms. Evelyn Rosborough via email: rosborough.evelyn@epa.gov, or may be mailed to Ms. Evelyn Rosborough, Environmental Protection Agency, Water Quality Protection Division (6WQ-NP), 1445 Ross Ave., Suite 1200, Dallas, TX 75202.

FOR FURTHER INFORMATION CONTACT: Contact Ms. Evelyn Rosborough, (214) 665-7515 or at rosborough.evelyn@epa.gov.

SUPPLEMENTARY INFORMATION: The Regional Administrator of EPA Region 6 published a Notice of Availability for the Preliminary Determination that certain stormwater discharges in Los Alamos County, New Mexico will be required to obtain National Pollutant Discharge Elimination System (NPDES) permit coverage under the Clean Water Act in the Federal Register on March 17, 2015 (80 FR 13852). In response to requests, the EPA is extending the public comment period for the Preliminary Designation until June 15, 2015. The comment period for the preliminary designation was initially scheduled to close on April 16, 2015.

The Preliminary Designation Document and supplementary information are available on the EPA Region 6 Web page at http://www.epa.gov/region6/water/npdes/publicnotices/nm/nmdraft.htm and the extension of the comment was posted on this Web page on April 15, 2015.

Dated: April 24, 2015.
David W. Gray,
Acting Regional Administrator, Region 6.

[FR Doc. 2015-10617 Filed 5-5-15; 8:45 am]

BILLING CODE 6560-50-P